DEPARTMENT OF DEFENSE

Office of the Secretary

Board of Regents of the Uniformed Services University of the Health Sciences

AGENCY: Department of Defense, Uniformed Services University of the Health Sciences

ACTION: Quarterly meeting notice.

SUMMARY: On April 10, 2007 (72 FR 17881), the Department of Defense published a notice with the subject heading “Department of Defense Task Force on the Future of Military Health Care” which should have read “Board of Regents of the Uniformed Services University of the Health Sciences”. This notice corrects the title for that notice. All other information remains unchanged.

FOR FURTHER INFORMATION AND BASE ACCESS PROCEDURES CONTACT: Janet S. Taylor, Designated Federal Officer.

Dated: April 23, 2007.
L.M. Bynum,
Alternate OSD Federal Register Liaison Officer, DoD.

[FR Doc. 07-2072 Filed 4-24-07; 10:49 am]

BILLING CODE 5001-06-M